DEPARTMENT OF HOMELAND SECURITY

Bureau of Customs and Border Protection

Cancellation of Customs Broker License Due to Death of the License Holder

AGENCY: Bureau of Customs and Border Protection, Department of Homeland Security.

ACTION: General Notice.

SUMMARY: Notice is hereby given that, pursuant to Title 19 of the Code of Federal Regulations § 111.51(a), the following individual Customs broker license and any and all permits have been cancelled due to the death of the broker:

Name | License # | Port name
Emmett Sindik | 04219 | New Orleans.
Kenneth E. Lacy | 05962 | San Francisco.
Jimmy F. Lumpkin | 06110 | New Orleans.

Dated: July 22, 2004.
Jayson P. Ahern,
Assistant Commissioner, Office of Field Operations.

[FR Doc. 04-17495 Filed 7-30-04; 8:45 am]

BILLING CODE 4820-02-P